ENVIRONMENTAL PROTECTION AGENCY

40 CFR Part 52

[CA 019-FOI; FRL-6841-9]

Clean Air Act Reclassification and Finding of Failure To Implement a State Implementation Plan; California, San Joaquin Valley Nonattainment Area; Ozone; Extension of Comment Period

AGENCY: Environmental Protection Agency (EPA).

ACTION: Proposed rule; extension of comment period.

SUMMARY: EPA is extending the comment period for its proposed action to find that the San Joaquin Valley serious ozone nonattainment area, which includes eastern Kern County, did not attain the 1-hour ozone national ambient air quality standard by November 15, 1999, the Clean Air Act's (CAA) attainment deadline for serious ozone nonattainment areas. If EPA makes final this proposed finding, the San Joaquin Valley nonattainment area will be reclassified by operation of law to severe.

DATES: Comments must arrive by August 28, 2000.

ADDRESSES: Mail comments to John Ungvarsky, Air Planning Office (Air-2), U.S. Environmental Protection Agency, Region IX, 75 Hawthorne Street, San Francisco, CA 94105-3901 or email comments to ungvarsky.john@epa.gov.

FOR FURTHER INFORMATION CONTACT: John Ungvarsky, Air Planning Office (Air-2), U.S. Environmental Protection Agency, Region IX, (415) 744-1286.

SUPPLEMENTARY INFORMATION: On June 19, 2000, we proposed that the San Joaquin Valley serious ozone nonattainment area did not attain the 1-hour ozone national ambient air quality standard and that the approved serious area ozone State Implementation Plan for the San Joaquin Valley nonattainment area has not been fully implemented.

The proposal provided a 30 day public comment period that ended on July 19, 2000. In response to a request from the San Joaquin Valley Unified Air Pollution Control District and the Kern County Air Pollution Control District, we are extending the comment period for an additional 30 days.

Dated: July 19, 2000.
Laura Yoshii,
Acting Regional Administrator, Region IX.

[FR Doc. 00-19013 Filed 7-26-00; 8:45 am]

BILLING CODE 6560-50-P